DEPARTMENT OF HEALTH AND HUMAN SERVICES

National Institutes of Health

Prospective Grant of Exclusive License: Use of Recombinant Yeast Expressing CEA for the Prevention and Treatment of Cancer

AGENCY: National Institutes of Health, Public Health Service, HHS.

ACTION: Notice.

SUMMARY: This is notice, in accordance with 35 U.S.C. 209(c)(1) and 37 CFR Part 404.7(a)(1)(i), that the National Institutes of Health, Department of Health and Human Services, is contemplating the grant of an exclusive patent license to practice the inventions embodied in U.S. Patent 6,756,038 and PCT Application Serial No. PCT/US98/19794 and foreign equivalents thereof, entitled “Agonist and Antagonist Peptides of Carcinoembryonic Antigen (CEA)” (E-099-1996/0) and U.S. Patent 6,969,582 and PCT Application Serial No. PCT/US99/26866 and foreign equivalents thereof, entitled “A Recombinant Vector Expressing Multiple Costimulatory Molecules and Uses Thereof” (E-256-1998/0), to GlobeImmune Inc., which is located in Louisville, Colorado. The patent rights in these inventions have been assigned to the United States of America. The prospective exclusive license territory may be worldwide and the field of use may be limited to the use recombinant Saccharomyces cerevisiae expressing CEA for the prevention and treatment of cancer.

DATES: Only written comments and/or applications for a license which are received by the NIH Office of Technology Transfer on or before April 27, 2007 will be considered.

ADDRESSES: Requests for copies of the patent application, inquiries, comments, and other materials relating to the contemplated exclusive license should be directed to: Michelle A. Booden, PhD., Technology Licensing Specialist, Office of Technology Transfer, National Institutes of Health, 6011 Executive Boulevard, Suite 325, Rockville, MD 20852-3804; Telephone: (301) 451-7337; Facsimile: (301) 402-0220; E-mail: boodenm@mail.nih.gov.

SUPPLEMENTARY INFORMATION: The technology describes the composition and use of nucleic acid sequences that encode agonist and one antagonist peptide variants of the human carcinoembryonic antigen (CEA) peptide, including but not limited to CAP-1. CEA is an antigen, which is expressed on the surface of various types of cancer cells. It is capable of stimulating a specific cytolytic T cell response, as is CAP-1, which is a highly immunogenic epitope of CEA. Therefore, CAP-1 agonists which are capable of eliciting a CEA-specific cytolytic T cell response, such as those identified by the inventors, may represent potential immunogens for use as therapeutic agents or vaccines against various cancers, and possibly also for use against autoimmune diseases. In fact, at least one of the agonist peptides appears to be more immunogenic than the native CAP-1 peptide. CAP-1 antagonists which are capable of reducing or eliminating this T cell response, such as the antagonist peptide variant identified by the inventors, may represent potential agents for use against autoimmune responses to CEA or to agonist peptide variants thereof.

The prospective exclusive license will be royalty bearing and will comply with the terms and conditions of 35 U.S.C. 209 and 37 CFR Part 404.7. The prospective exclusive license may be granted unless within sixty (60) days from the date of this published notice, the NIH receives written evidence and argument that establishes that the grant of the license would not be consistent with the requirements of 35 U.S.C. 209 and 37 CFR Part 404.7.

Applications for a license in the field of use filed in response to this notice will be treated as objections to the grant of the contemplated exclusive license. Comments and objections submitted to this notice will not be made available for public inspection and, to the extent permitted by law, will not be released under the Freedom of Information Act, 5 U.S.C. 552.

Dated: February 16, 2007.
Steven M. Ferguson,
Director, Division of Technology Development and Transfer, Office of Technology Transfer, National Institutes of Health.

[FR Doc. E7-3153 Filed 2-23-07; 8:45 am]

BILLING CODE 4140-01-P